DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than July 30, 2018.

Interested persons are invited to submit written comments regarding the subject matter of the investigations to the Director, Office of Trade Adjustment Assistance, at the address shown below, not later than July 30, 2018.

The petitions filed in this case are available for inspection at the Office of the Director, Office of Trade Adjustment Assistance, Employment and Training Administration, U.S. Department of Labor, Room N-5428, 200 Constitution Avenue NW, Washington, DC 20210.

Signed at Washington, DC this 15th day of May 2018.
Hope D. Kinglock,
Certifying Officer, Office of Trade Adjustment Assistance.

Appendix
[128 TAA petitions instituted between 3/31/18 and 5/15/18]
TA-W | Subject firm (petitioners) | Location | Date of institution | Date of petition
93690 | Johanson Dielectrics Inc. (Company) | Sylmar, CA | 04/02/18 | 03/29/18
93691 | Johanson Technology Inc. (Company) | Camarillo, CA | 04/02/18 | 03/29/18
93692 | Adecco (State/One-Stop) | Maple Grove, MN | 04/02/18 | 03/30/18
93693 | Solo Cup Operating Corporation (Union) | Augusta, GA | 04/02/18 | 03/30/18
93694 | American Express (State/One-Stop) | Taylorsville, UT | 04/03/18 | 03/20/18
93695 | Elsevier Inc. (Company) | Maryland Heights, MO | 04/03/18 | 04/02/18
93696 | Energy Fuels-Henry Mountain/Tony M. Mine (State/One-Stop) | Ticaboo, UT | 04/03/18 | 03/22/18
93697 | Mississippi Lime Company (Union) | Huron, OH | 04/03/18 | 04/02/18
93698 | Boyd Coffee Company (State/One-Stop) | Council Bluffs, IA | 04/04/18 | 04/02/18
93699 | General Electric (Workers) | Anasco, PR | 04/04/18 | 04/03/18
93700 | XPO Logistics Managed Transportation, LLC (State/One-Stop) | Portland, OR | 04/04/18 | 04/03/18
93701 | Origio Inc. (State/One-Stop) | Charlottesville, VA | 04/05/18 | 04/04/18
93702 | Koppers Inc. Follansbee Location (Company) | Follansbee, WV | 04/05/18 | 04/04/18
93703 | National Optronics (N.O.) Acquisition Corporation (State/One-Stop) | Charlottesville, VA | 04/05/18 | 04/04/18
93704 | Electrolux Major Appliances—Freezer Division (State/One-Stop) | St. Cloud, MN | 04/06/18 | 04/05/18
93705 | Nonmetallic Machining & Assembly (State/One-Stop) | Erie, PA | 04/06/18 | 04/04/18
93706 | Chesapeake Energy Corporation (6100 N Western Ave., Oklahoma City, OK) & (State/One-Stop) | Oklahoma City, OK | 04/09/18 | 04/06/18
93707 | GroupSystems DBA ThinkTank (State/One-Stop) | Denver, CO | 04/09/18 | 04/06/18
93708 | MOL (America) Inc. (State/One-Stop) | Woodbridge, NJ | 04/09/18 | 04/06/18
93709 | ADP, LLC (State/One-Stop) | Portland, OR | 04/10/18 | 04/09/18
93710 | Convergys (State/One-Stop) | Omaha, NE | 04/10/18 | 04/06/18
93711 | Ericsson (Company) | Overland Park, KS | 04/10/18 | 04/10/18
93712 | MAHLE Filter Systems NA (State/One-Stop) | Winterset, IA | 04/10/18 | 04/09/18
93713 | Hudson Technologies (State/One-Stop) | Pearl River, NY | 04/11/18 | 04/09/18
93714 | NRG-Homer City Generating Station (Union) | Homer City, PA | 04/11/18 | 04/09/18
93715 | Teva Pharmaceuticals (State/One-Stop) | Forest, VA | 04/11/18 | 04/10/18
93716 | Deco Lighting (State/One-Stop) | Commerce, CA | 04/12/18 | 04/11/18
93717 | Jabil Inc. (State/One-Stop) | Poughkeepsie, NY | 04/13/18 | 04/12/18
93718 | GE Distributed Power, Inc. d/b/a Waukesha Gas Engines (Union) | Waukesha, WI | 04/13/18 | 04/12/18
93719 | NAU International, Inc. (State/One-Stop) | Portland, OR | 04/13/18 | 04/12/18
93720 | Ericsson Inc. (Company) | Piscataway, NJ | 04/13/18 | 04/11/18
93721 | Toyo Tire Mexico LLC (State/One-Stop) | Chula Vista, CA | 04/13/18 | 04/10/18
93722 | Tech Mahindra Americas, Inc. (State/One-Stop) | Alpharetta, GA | 04/13/18 | 04/10/18
93723 | Steelcase Inc. (Company) | Grand Rapids, MI | 04/13/18 | 04/11/18
93724 | Autolite Fram Group (State/One-Stop) | Fostoria, OH | 04/16/18 | 04/13/18
93725 | Hewlett Packard Enterprise (Workers) | Andover, MA | 04/16/18 | 04/12/18
93726 | Lonza Inc. (Company) | Allendale, NJ | 04/16/18 | 04/11/18
93727A | Spang & Company (Company) | Pittsburgh, PA | 04/16/18 | 04/16/18
93727 | Spang & Company (Company) | East Butler, PA | 04/16/18 | 04/16/18
93728 | Technicolor Connected Home USA (State/One-Stop) | Indianapolis, IN | 04/16/18 | 04/13/18
93729 | Tridien Medical (Company) | Coral Springs, FL | 04/16/18 | 04/12/18
93730A | Allianz Global Corporate & Specialty (State/One-Stop) | Fresno, CA | 04/17/18 | 04/11/18
93730 | Allianz Global Corporate & Specialty (State/One-Stop) | Spokane, WA | 04/17/18 | 04/11/18
93731 | GE MDS (State/One-Stop) | Rochester, NY | 04/17/18 | 04/13/18
93732 | Itron Inc. (State/One-Stop) | Liberty Lake, WA | 04/17/18 | 04/16/18
93733 | ADP Payroll Services (State/One-Stop) | Clackamas, OR | 04/18/18 | 04/17/18
93734 | Applied Materials (State/One-Stop) | Austin, TX | 04/18/18 | 04/17/18
93735 | Hutchinson Technology Inc. (State/One-Stop) | Hutchinson, MN | 04/18/18 | 04/17/18
93736 | Mayer Industries Inc. (State/One-Stop) | Orangeburg, SC | 04/18/18 | 04/17/18
93737 | Ocwen Financial Corporation (State/One-Stop) | Addison, TX | 04/18/18 | 04/17/18
93738 | Urban Outiftters (State/One-Stop) | Philadelphia, PA | 04/18/18 | 04/17/18
93739 | Ericsson (State/One-Stop) | Richardson, TX | 04/19/18 | 04/18/18
93740 | The Northern Trust Company (State/One-Stop) | Naperville, IL | 04/19/18 | 04/18/18
93741 | Thomson Reuters (State/One-Stop) | New York, NY | 04/19/18 | 04/18/18
93742 | East Bay Times (State/One-Stop) | Antioch, CA | 04/20/18 | 04/18/18
93743 | Necco (State/One-Stop) | Keller, TX | 04/20/18 | 04/18/18
93744 | Tanner Companies, LLC (Workers) | Rutherfordton, NC | 04/20/18 | 04/19/18
93745 | CCMA (State/One-Stop) | Amherst, NY | 04/23/18 | 04/20/18
93746 | Clinicient, Inc. (Workers) | Portland, OR | 04/23/18 | 04/20/18
93747 | CTS Corporation (State/One-Stop) | Elkhart, IN | 04/23/18 | 04/20/18
93748 | Milward Alloys (State/One-Stop) | Lockport, NY | 04/23/18 | 04/20/18
93749 | Traxys (State/One-Stop) | New York, NY | 04/23/18 | 04/20/18
93750 | Yellow Pages Digital & Media Solution LLC (Workers) | Indianapolis, IN | 04/23/18 | 04/20/18
93751 | Computershare Inc., Canton Finance Group (Workers) | Canton, MA | 04/24/18 | 04/23/18
93752 | Covidien (State/One-Stop) | North Haven, CT | 04/24/18 | 04/23/18
93753 | Metaswitch Networks Corp. (State/One-Stop) | Green Village, CO | 04/24/18 | 04/23/18
93754 | Monster Moto, LLC (State/One-Stop) | Ruston, LA | 04/24/18 | 04/23/18
93755 | AVX Corporation (Company) | Olean, NY | 04/24/18 | 04/23/18
93756 | Wide Open West Illinois, LLC (State/One-Stop) | Colorado Springs, CO | 04/24/18 | 04/23/18
93756A | Wide Open West Illinois, LLC (State/One-Stop) | Augusta, GA | 04/24/18 | 04/23/18
93757 | A.O. Smith Corporation (Union) | Renton, WA | 04/25/18 | 04/16/18
93758 | Endura Products, Inc. (State/One-Stop) | Sparta, TN | 04/25/18 | 04/24/18
93759 | Fasten, Inc. (State/One-Stop) | Boston, MA | 04/25/18 | 04/24/18
93760 | Radial, Inc. (Workers) | Memphis, TN | 04/25/18 | 04/24/18
93761 | Tech Mahindra Americas Inc. for AT&T(Workers) | Plano, TX | 04/25/18 | 04/09/18
93762 | VMware, Inc. (State/One-Stop) | Palo Alto, CA | 04/25/18 | 04/24/18
93763 | AK Steel Corporation (State/One-Stop) | Lyndora, PA | 04/26/18 | 04/25/18
93764 | ATOS (State/One-Stop) | Mason, OH | 04/26/18 | 04/25/18
93765 | Ergotron Warehouse (State/One-Stop) | Tualatin, OR | 04/26/18 | 04/25/18
93766 | Harmonic Inc. (State/One-Stop) | Beaverton, OR | 04/26/18 | 04/25/18
93767 | Heidenhain Corporation (Company) | Jamestown, NY | 04/26/18 | 04/25/18
93768 | Woolrich Inc. (State/One-Stop) | New York, NY | 04/26/18 | 04/26/18
93769 | Alice Manufacturing Company (State/One-Stop) | Easley, SC | 04/27/18 | 04/27/18
93770 | Anchor Glass Container Corp. (State/One-Stop) | Zanesville, OH | 04/27/18 | 04/26/18
93771 | Cascade Steel (State/One-Stop) | City of Industry, CA | 04/27/18 | 04/26/18
93772 | Gerdau (State/One-Stop) | Rancho Cucamonga, CA | 04/27/18 | 04/26/18
93773 | Jeffboat LLC (State/One-Stop) | Jeffersonville, IN | 04/27/18 | 04/27/18
93774 | Keystone (State/One-Stop) | Chicago Heights, IL | 04/27/18 | 04/26/18
93775 | Keystone Steel & Wire (State/One-Stop) | Peoria, IL | 04/27/18 | 04/26/18
93776 | Nucor Steel Company (State/One-Stop) | Bourbonnais, IL | 04/27/18 | 04/26/18
93777 | Siemens Shared Services, Employee Data Management (Workers) | Orlando, FL | 04/27/18 | 04/26/18
93778 | SL Montevideo Technology Inc. (State/One-Stop) | Montevideo, MN | 04/27/18 | 04/26/18
93779 | Boeing (State/One-Stop) | Oklahoma City, OK | 04/30/18 | 04/27/18
93780 | International Bildrite Inc. (State/One-Stop) | International Falls, MN | 05/01/18 | 04/30/18
93781 | Philips Electronics North America Corp. (State/One-Stop) | Andover, MA | 05/01/18 | 04/30/18
93782 | Puppet Labs, Inc. (State/One-Stop) | Portland, OR | 05/01/18 | 04/30/18
93783 | Westhaven Solar (State/One-Stop) | Yuba City, CA | 05/01/18 | 04/30/18
93784 | Eaton Corp (State/One-Stop) | Horseheads, NY | 05/02/18 | 05/01/18
93785 | Integrated Manufacturing and Assembly (State/One-Stop) | Detroit, MI | 05/02/18 | 05/01/18
93786 | Owens Corning (State/One-Stop) | Brunswick, ME | 05/02/18 | 05/01/18
93787 | Airtronics Inc. (State/One-Stop) | Bellevue, WA | 05/03/18 | 04/30/18
93788 | Byer Steel Group, Inc. (State/One-Stop) | Cincinnati, OH | 05/03/18 | 05/03/18
93789 | C&D Zodiac, Inc. (Company) | Garden Grove, CA | 05/03/18 | 04/30/18
93790 | Commercial Metals Company (State/One-Stop) | Magnolia, AR | 05/03/18 | 05/02/18
93791 | Demag Cranes & Components Co. (State/One-Stop) | Solon, OH | 05/03/18 | 05/02/18
93792 | Harbison Walker International, Inc. (State/One-Stop) | Oak Hill, OH | 05/03/18 | 05/02/18
93793 | Hubbell Lighting Hudson (Company) | Hudson, WI | 05/03/18 | 05/03/18
93794 | Keystone Steel & Wire Co. (State/One-Stop) | Upper Sandusky, OH | 05/03/18 | 05/03/18
93795 | The Howard Young Medical Center, Inc. (Workers) | Woodruff, WI | 05/04/18 | 05/03/18
93796 | Finastra/D + H USA Corp/Harland Financial Sol. (State/One-Stop) | Portland, OR | 05/04/18 | 05/03/18
93797 | General Electric (Company) | Grove City, PA | 05/04/18 | 05/03/18
93798 | Joyson Safety Systems (Takata) (State/One-Stop) | Moses Lake, WA | 05/04/18 | 05/02/18
93799 | Toys R Us (6015) (Workers) | Merrillville, IN | 05/04/18 | 05/03/18
93800 | Qorvo Oregon, Inc. (State/One-Stop) | Hillsboro, OR | 05/08/18 | 05/07/18
93801 | BAE (Company) | Denver, CO | 05/08/18 | 05/07/18
93802 | Optum Health UHC (State/One-Stop) | Richardson, TX | 05/08/18 | 05/04/18
93803 | Philips Lighting North America Corporation (Company) | Fall River, MA | 05/08/18 | 05/01/18
93804 | Ricoh, USA, Inc. (State/One-Stop) | Boulder, CO | 05/08/18 | 05/07/18
93805 | U.S. Steel Tubular Products, Inc. (Lone Star Tubular Operations) (State/One-Stop) | Lone Star, TX | 05/09/18 | 05/08/18
93806 | Hampton Products (Company) | Willimantic, CT | 05/09/18 | 05/08/18
93807 | Hampton Products (Company) | Rice Lake, WI | 05/09/18 | 05/08/18
93808 | Cascade Steel Rolling Mills (Company) | McMinnville, OR | 05/10/18 | 05/08/18
93809 | Northeast Provider Solutions (State/One-Stop) | Hawthorne, NY | 05/10/18 | 05/10/18
93810 | Reviewbuzz Inc. (State/One-Stop) | Oceanside, CA | 05/10/18 | 05/09/18
93811 | RF Digital Corp. (State/One-Stop) | Hermosa Beach, CA | 05/10/18 | 05/09/18
93812 | Ajax X Ray Inc—Foundry Division (Company) | Sayre, PA | 05/11/18 | 05/10/18
93813 | Continental ContiTech North America (State/One-Stop) | Hannibal, MO | 05/11/18 | 05/10/18
93814 | DISH Network (subsidiary of Echosphere) (State/One-Stop) | Christiansburg, VA | 05/11/18 | 05/10/18

[FR Doc. 2018-15270 Filed 7-17-18; 8:45 am]

BILLING CODE 4510-FN-P